DEPARTMENT OF HOMELAND SECURITY

Federal Emergency Management Agency

[Docket ID FEMA-2022-0052; OMB No. 1660-0069]

Agency Information Collection Activities: Submission for OMB Review, Comment Request; National Fire Incident Reporting System (NFIRS) Version 5.0

AGENCY: Federal Emergency Management Agency, Department of Homeland Security.

ACTION: 30-Day notice of revision and request for comments.

SUMMARY: The Federal Emergency Management Agency (FEMA) will submit the information collection abstracted below to the Office of Management and Budget for review and clearance in accordance with the requirements of the Paperwork Reduction Act of 1995. The submission will describe the nature of the information collection, the categories of the respondents, the estimated burden (i.e., the time, effort and resources used by respondents to respond) and cost, and the actual data collection instruments FEMA will use.

DATES: Comments must be submitted on or before March 24, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C St. SW, Washington, DC 20472, email address: FEMA-Information-Collections-Management@fema.dhs.gov or David Millstein, Branch Chief National Fire Data Center, (301) 447-1841 or david.millstein@fema.dhs.gov.

SUPPLEMENTARY INFORMATION: The National Commission on Fire Prevention and Control conducted a comprehensive study of the Nation's fire problem and recommended to Congress actions to mitigate the fire problem, reduce loss of life and property, and educate the public on fire protection and prevention. As a result of the study, Congress enacted Public Law 93-498, Federal Fire Prevention and Control Act of 1974, which establishes the U.S. Fire Administration (USFA) to administer fire prevention and control programs, supplement existing programs of research, training, and education, and encourage new and improved programs and activities by state and local governments. Section 9(a) of the Act authorizes the USFA Administrator to operate directly or through contracts or grants an integrated, comprehensive method to select, analyze, publish, and disseminate information related to prevention, occurrence, control, and results of fires of all types. The National Fire Incident Reporting Systems (NFIRS) was established in the mid-1970s and is mandated by the Federal Fire Prevention and Control Act of 1974 which authorizes the National Fire Data Center to gather and analyze information such as: (1) the frequency, causes, spread, and extinguishment of fires; (2) injuries and deaths resulting from fires; (3) information on injuries sustained by a firefighter; and (4) information on firefighting activities. The act further authorizes USFA to develop uniform data reporting methods, and to encourage and assist Federal, state, local and other agencies in developing and reporting information. NFIRS is a reporting standard that fire departments use to uniformly report on the full range of their activities, from fire to emergency medical services to severe weather and natural disasters. This reporting allows fire departments, as well as many other government and non-government agencies, to quantify their actions and identify incident and response trends. Recent modernization to the data collection improved and therefore reduced the burden hours for reporting data to NFIRS. FEMA is requesting a revision of this information collection.

This proposed information collection previously published in the Federal Register on December 9, 2022, at 87 FR 75642 with a 60-day public comment period. No comments were received. The purpose of this notice is to notify the public that FEMA will submit the information collection abstracted below to the Office of Management and Budget for review and clearance.

Collection of Information

Title: National Fire Incident Reporting System (NFIRS) Version 5.0.

Type of Information Collection: Extension, with change, of a currently approved information collection.

OMB Number: 1660-0069.

FEMA Forms: FEMA Form FF-USFA-FY-21-109, National Fire Incident Reporting System (NFIRS) Version 5.0.

Abstract: The purpose of this revision is to provide the reduction of burden hours recently achieved by modernizing and improving the application's interface. NFIRS is the USFA's system authorized under Public Law 93-498 to collect fire related data to identify and define the fire problem in the U.S., and to reduce fire related casualties and losses. Operating since 1999, the system provides an electronic, web-based application for users to input their incident response information in a uniform manner.

Affected Public: Individuals or households; State, local or Tribal government.

Estimated Number of Respondents: 23,500.

Estimated Number of Responses: 28,059,000.

Estimated Total Annual Burden Hours: 9,820,650.

Estimated Total Annual Respondent Cost: $420,225,614.

Estimated Respondents' Operation and Maintenance Costs: $1,974,000.

Estimated Respondents' Capital and Start-Up Costs: $1,128,000.

Estimated Total Annual Cost to the Federal Government: $3,436,118.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-03617 Filed 2-21-23; 8:45 am]

BILLING CODE 9111-76-P